DEPARTMENT OF COMMERCE

International Trade Administration

North American Free-Trade Agreement, Article 1904 NAFTA Panel Reviews; Notice of Completion of Panel Review

AGENCY: NAFTA Secretariat, United States Section, International Trade Administration, Department of Commerce.

ACTION: Notice of Completion of Panel Review of the final remand determination made by the U.S. International Trade Administration, in the matter of Gray Portland Cement and Clinker from Mexico (5th Administrative Review), Secretariat File No. USA-97-1904-01.

SUMMARY: Pursuant to the Order of the Binational Panel dated February 10, 2000, affirming the final remand described above was completed on October 30, 2003. With the decision of the Extraordinary Challenge Committee dated October 30, 2003, the above panel review is completed.

FOR FURTHER INFORMATION CONTACT: Caratina L. Alston, United States Secretary, NAFTA Secretariat, Suite 2061, 14th and Constitution Avenue, Washington, DC 20230, (202) 482-5438.

SUPPLEMENTARY INFORMATION: On February 10, 2000, the Binational Panel issued an order which affirmed the final remand determination of the United States International Trade Administration (“ITA”) concerning Gray Portland Cement and Clinker from Mexico. The Secretariat was instructed to issue a Notice of Completion of Panel Review on the 31st day following the issuance of the Notice of Final Panel Action, if no request for an Extraordinary Challenge was filed. A request for an Extraordinary Challenge Committee was filed on March 23, 2000. On October 30, 2003 the Extraordinary Challenge Committee rendered a decision to affirm the February 10, 2000 panel decision. Based on Article 1904 Panel Rules, the Panel Review was completed and the panelists discharged from their duties effective October 30, 2003.

Dated: October 31, 2003.
Caratina L. Alston,
United States Secretary, NAFTA Secretariat.

[FR Doc. 03-27963 Filed 11-5-03; 8:45 am]

BILLING CODE 3410-GT-P